DEPARTMENT OF LABOR

Employee Benefits Security Administration

[Prohibited Transaction Exemption (PTE) 2009-24; Exemption Application No. D-11465]

United States Steel and Carnegie Pension Fund (the Applicant), Located in New York, NY

AGENCY: Employee Benefits Security Administration, U.S. Department of Labor (the Department).

ACTION: Notice of technical correction.

On September 1, 2009, the Department published PTE 2009-24 in the Federal Register at 74 FR 45294. PTE 2009-24 permits transactions between parties in interest with respect to the Former U.S. Steel Related Plans, as defined in PTE 2009-24, and an investment fund in which such plans have an interest, provided that the Applicant or its successor has discretionary authority or control with respect to the plan assets involved in the transaction, and various enumerated conditions are satisfied.

Due to a technical error appearing in the final exemption, the Department is hereby making a revision to the document. On page 45298 of the grant notice, the first paragraph under the heading Temporary Nature of Exemption is revised to read as follows:

Temporary Nature of Exemption

The Department has determined that the relief provided by this exemption is temporary in nature. The exemption is effective February 15, 2003, and will expire on the day which is five (5) years from the first day of the first fiscal year of UCF after the date of the publication of the final exemption in the Federal Register (i.e., September 1, 2009). Accordingly, the relief provided by this exemption will not be available upon the expiration of such five-year period for any new or additional transactions, as described herein, after such date, but would continue to apply beyond the expiration of such five-year period for continuing transactions entered into before the expiration of the five-year period. Should the Applicant wish to extend, beyond the expiration of such five-year period, the relief provided by this exemption to new or additional transactions, the Applicant may submit another application for exemption.

FOR FURTHER INFORMATION CONTACT: Mr. Gary H. Lefkowitz of the Department at (202) 693-8546. (This is not a toll-free number.)

Signed at Washington, DC, this 10th day of November 2009.
Ivan L. Strasfeld,
Director of Exemption Determinations, Employee Benefits Security Administration, U.S. Department of Labor.

[FR Doc. E9-27403 Filed 11-13-09; 8:45 am]

BILLING CODE P